NUCLEAR REGULATORY COMMISSION

10 CFR Part 72

RIN 3150-AG57

List of Approved Spent Fuel Storage Casks: NAC-UMS Revision, Confirmation of Effective Date

AGENCY: Nuclear Regulatory Commission.

ACTION: Direct final rule; confirmation of effective date.

SUMMARY: The Nuclear Regulatory Commission (NRC) is confirming the effective date of February 20, 2001, for the direct final rule that appeared in the Federal Register of December 7, 2000 (65 FR 76896). This direct final rule amended the NRC's regulations to allow holders of power reactor operating licenses as general licensees to store PWR design basis fuel assemblies in accordance with revised technical specifications and Maine Yankee site-specific spent fuel in the NAC-UMS. The changes proposed for Amendment No. 1 to the NAC-UMS CoC include: changes to authorized contents to allow Maine Yankee site-specific spent fuels within the PWR basket, including damaged or consolidated fuel in a Maine Yankee fuel can and burnups up to 50,000 MWd/MTU; changes to allow longer times for PWR spent fuel cask loading operations based on reduced heat loads; authorization to store, without canning, intact PWR assemblies with missing grid spacers (up to an unsupported length of 60 inches); editorial clarifications to the technical specifications (TS); and deletion of a certificate reference to the NS-4-FR trade name of the solid neutron shielding material in the VCC shield plug. This document confirms the effective date.

DATES: The effective date of February 20, 2001 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Keith K. McDaniel, Office of Nuclear Materials Safety and Safeguards, U.S. Nuclear Regulatory Commission, Washington, DC 20555-0001. Telephone (301) 415-5252 (E-mail: kkm@nrc.gov).

SUPPLEMENTARY INFORMATION: On December 7, 2000 (65 FR 76896), the NRC published in the Federal Register a direct final rule amending its regulations in 10 CFR part 72 to allow holders of power reactor operating licenses as general licensees to store PWR design basis fuel assemblies in accordance with revised technical specifications and Maine Yankee site-specific spent fuel in the NAC-UMS. The changes proposed for Amendment No. 1 to the NAC-UMS CoC include: changes to authorized contents to allow Maine Yankee site-specific spent fuels within the PWR basket, including damaged or consolidated fuel in a Maine Yankee fuel can and burnups up to 50,000 MWd/MTU; changes to allow longer times for PWR spent fuel cask loading operations based on reduced heat loads; authorization to store, without canning, intact PWR assemblies with missing grid spacers (up to an unsupported length of 60 inches); editorial clarifications to the technical specifications (TS); and deletion of a certificate reference to the NS-4-FR trade name of the solid neutron shielding material in the VCC shield plug. In the direct final rule, NRC stated that if no significant adverse comments were received, the direct final rule would become final on the date noted above. The NRC did not receive any comments that warranted withdrawal of the direct final rule. Therefore, this rule will become effective as scheduled.

Dated at Rockville, Maryland, this 5th day of February, 2001.
For the Nuclear Regulatory Commission.
Michael T. Lesar,
Acting Chief, Rules and Directives Branch, Division of Administrative Services, Office of Administration.

[FR Doc. 01-3954 Filed 2-15-01; 8:45 am]

BILLING CODE 7590-01-P